DEPARTMENT OF DEFENSE

Office of the Secretary

[Transmittal No. 19-34]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-34 with attached Policy Justification and Sensitivity of Technology.

Dated: June 10, 2019.
Aaron T. Siegel,
Alternate OSD Federal Register Liaison Officer, Department of Defense.

BILLING CODE 5001-06-P

BILLING CODE 5001-06-C

Transmittal No. 19-34

Notice of Proposed Issuance of Letter of Offer Pursuant to Section 36(b)(1) of the Arms Export Control Act, as amended

(i) Prospective Purchaser: Government of the Czech Republic

(ii) Total Estimated Value:

Major Defense Equipment * | $180 million
Other | $ 25 million
TOTAL | $205 million

(iii) Description and Quantity or Quantities of Articles or Services under Consideration for Purchase:

Major Defense Equipment (MDE):

Four (4) AH-1Z Attack Helicopters

Eight (8) T700-GE-701D Engines (installed)

Eight (8) Honeywell Embedded Global Positioning Systems with Navigation (EGI) and Precise Positioning Service (PPS) (installed)

Fourteen (14) AGM-114 Hellfire Missiles

Non-MDE:

Also included is communication equipment, electronic warfare systems, M197 20mm machine guns, Target Sight System, support equipment, spare engine containers, spare and repair parts, tools and test equipment, technical data and publications, personnel training and training equipment, U.S. government and contractor engineering, technical, and logistics support services, and other related elements of logistics and program support.

(iv) Military Department: Navy (EZ-P-SBF)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: May 3, 2019

* As defined in Section 47(6) of the Arms Export Control Act.

POLICY JUSTIFICATION

Czech Republic—AH-1Z Attack Helicopters

The Government of Czech Republic has requested to buy four (4) AH-1Z attack helicopters, eight (8) T700-GE-701D engines (installed), eight (8) Honeywell Embedded Global Positioning Systems with Inertial Navigation (EGI) and Precise Positioning Service (PPS) (installed), and fourteen (14) AGM-114 Hellfire missiles. Also included is communication equipment, electronic warfare systems, M197 20mm machine guns, Target Sight System, support equipment, spare engine containers, spare and repair parts, tools and test equipment, technical data and publications, personnel training and training equipment, U.S. government and contractor engineering, technical, and logistics support services, and other related elements of logistics and program support. The total estimated program cost is $205 million.

This proposed sale will support the foreign policy and national security of the United States by helping to improve the security of a NATO partner that is an important force for ensuring peace and stability in Europe. The proposed sale will support the Czech Republic's need for its own self-defense and support NATO defense goals.

The Czech Republic is considering either the UH-60M or the UH-1Y/AH-1Z to replace its aging Mi-24 helicopters. The Czech Republic intends to use these helicopters to modernize its armed forces and strengthen its homeland defense. This will contribute to the Czech Republic's military goal of updating its capabilities while further enhancing interoperability with the United States and NATO allies. The Czech Republic will have no difficulty absorbing these helicopters into its armed forces.

The proposed sale of this equipment will not alter the basic military balance in the region.

The principal contractors will be Bell Helicopter, Textron, Fort Worth, Texas; and General Electric Company, Lynn, Massachusetts. There are no known offset agreements in connection with this potential sale.

Implementation of this proposed sale will require multiple trips by U.S. Government and contractor representatives to participate in program and technical reviews plus training and maintenance support in country, on a temporary basis, for a period of twenty-four (24) months. It will also require three (3) contractor representatives to reside in country for a period of two (2) years to support this program.

There will be no adverse impact on U.S. defense readiness as a result of this proposed sale.

Transmittal No. 19-34

Notice of Proposed Issuance of Letter of Offer Pursuant to Section 36(b)(1) of the Arms Export Control Act

Annex

Item No. vii

(vii) Sensitivity of Technology:

1. The AH-1Z Helicopter is a twin-engine attack helicopter developed for the United States Marine Corps. The AH-1Z incorporates new rotor technology with upgraded military avionics, weapons systems, and electro-optical sensors in an integrated weapons platform. It has improved survivability and can find targets at longer ranges and attack them with precision weapons. The four blades are made of composites, which have an increased ballistic survivability, and there is a semi-automatic folding system for stowage aboard amphibious assault ships.

2. The Z-model has an integrated avionics system (IAS) which includes two (2) mission computers and an automatic flight control system. Each crew station has two (2) 8x6- inch multifunction liquid crystal displays (LCD) and one (1) 4.2x4.2-inch dual function LCD display. The communications suite will have NON-COMSEC ARC 210 UHFNHF radios with associated communications equipment. The navigation suite includes a Precise Positioning System (SPS) Honeywell embedded GPS inertial navigation system (EGI), a digital map system, and a low-airspeed air data subsystem, which allows weapons delivery when hovering.

3. The crew is equipped with the Optimized Top Owl (OTO) helmet-mounted sight and display system. The OTO has a Day Display Module (DDM) and a Night Display Module (NDM). The AH-1Z has survivability equipment including the AN/AAR-47 Missile Warning and Laser Detection System, AN/ALE-47 Counter Measure Dispensing System (CMOS) and the AN/APR-39 Radar Warning Receiver to cover countermeasure dispensers, radar warning, incoming/on-way missile warning and on-fuselage laser-spot warning systems.

4. The following performance data and technical characteristics are classified as annotated:

AH-1Z Airframe
—Countermeasure capability | SECRET
—Counter-countermeasures capability | SECRET
—Vulnerability to countermeasures | SECRET
—Vulnerability to electromagnetic pulse from nuclear environmental effects | SECRET
—Radar signature | SECRET
—Infrared signature | SECRET
—Acoustic signature | CONFIDENTIAL
—Ultraviolet signature | SECRET
—Mission effectiveness against threats | CONFIDENTIAL
Target Sight System (TSS) | Up to SECRET
Other Systems
— —Tactical Air Moving Map Capability (TAMMAC) | Up to SECRET
— —Honeywell Embedded GPS & INS (EGI) w/SPS | Up to SECRET
— —AN/ARC-210 RT 1939(A) | Up to SECRET
— —APX-123A IFF Transponder | Up to SECRET
— —VCR or DVR | Up to SECRET
— —APR-39 Radar Warning System (RWS) | Up to SECRET
— —AN/AAR-47 Missile/Laser Warning System (MLWS) | Up to SECRET
— —AN/ALE-47 Countermeasures Dispenser Set (CMDS) | Up to SECRET

5. If a technologically advanced adversary were to obtain knowledge of the specific hardware and software elements, the information could be used to develop countermeasures or equivalent systems which might reduce weapon system effectiveness or be used in the development of a system with similar or advanced capabilities.

6. This sale is necessary in furtherance of the U.S. foreign policy and national security objectives outlined in the enclosed Policy Justification. A determination has been made that Czech Republic can provide the same degree of protection for the sensitive technology being released as the U.S. Government.

7. All defense articles and services listed in this transmittal have been authorized for release and export to Czech Republic.

[FR Doc. 2019-12510 Filed 6-12-19; 8:45 am]

BILLING CODE 5001-06-P